FEDERAL COMMUNICATIONS COMMISSION

[CC Docket 98-67; DA 03-2409]

Notice of Certification of State Telecommunications Relay Service (TRS) Programs

AGENCY: Federal Communications Commission.

ACTION: Notice.

SUMMARY: The purpose of this document is to notify state Telecommunications Relay Service (TRS) programs that certification of their program has been granted through July 26, 2008. Notice is hereby given that the applications for certification of state Telecommunications Relay Services (TRS) programs of the states listed below have been granted, subject to the condition described below, pursuant to Title IV of the Americans with Disabilities Act (ADA), 47 USC. 225 (f)(2), and § 64.605(b) of the Commission's rules, 47 CFR 64.605(b). On the basis of the state applications, the Commission has determined that: the TRS program of the states meet or exceed all operational, technical, and functional minimum standards contained in section 64.604 of the Commission's rules, 47 CFR 64.604; the TRS programs of the listed states make available adequate procedures and remedies for enforcing the requirements of the state program; and the TRS programs of the listed states in no way conflict with federal law.

DATES: This certification shall remain in effect for a five year period, beginning July 26, 2003, and ending July 25, 2008, pursuant to 47 CFR 64.605(c).

ADDRESSES: Federal Communications Commission, 445 12th Street, SW., Washington, DC 20554.

FOR FURTHER INFORMATION CONTACT: Erica Myers, (202) 418-2429 (voice), (202) 418-0464 (TTY), or e-mail Erica.Myers@fcc.gov.

SUPPLEMENTARY INFORMATION: This is a summary of the Commission's Public Notice, DA 03-2409, CC Docket No. CC 98-67 released July 24, 2003. Copies of applications for certification are available for public inspection and copying during regular business hours at the FCC Reference Information Center, Portals II, 445 12th Street, SW., Room CY-A257, Washington, DC 20554. The applications for certification are also available on the Commission's Web site at http://www.fcc.gov/cgb/dro/trs_by_state.html. They may also be purchased from the Commission's duplicating contractor, Qualex International, Portals II, 44512th Street, SW., Room CY-B402, Washington, DC 20554, telephone (202) 863-2893, facsimile (202) 863-2898, or via e-mail qualexint@aol.com.

To request materials in accessible formats for people with disabilities (Braille, large print, electronic files, audio format), send an e-mail to fcc504@fcc.gov or call Consumer & Governmental Affairs Bureau, at (202) 418-0531 (voice), (202) 418-7365 9 (TTY). The Public Notice can also be downloaded in Text and ASCII formats at: http://www.fcc.gov/cgb/dro.

Synopsis

The Commission also has determined that, where applicable, the intrastate funding mechanisms of the listed states are labeled in a manner that promotes national understanding of TRS and does not offend the public, consistent with section 64.605(d) of the Commission's rules, 47 CFR 64.605 (d).

Because the Commission may adopt changes to the rules governing relay programs, including state relay programs, the certification granted herein is conditioned on a demonstration of compliance with the new rules adopted and any additional new rules that are adopted by the Commission. The Commission will provide guidance to the states on demonstrating compliance with such rule changes.

This certification, as conditioned herein, shall remain in effect for a five year period, beginning July 26, 2003, and ending July 25, 2008, pursuant to 47 CFR 64.605 (c). One year prior to the expiration of this certification, July 25, 2007, the states may apply for renewal of their TRS program certification by filing demonstration in accordance with the Commission's rules, pursuant to 47 CFR 64.605(a) and (b).

Third Group of States Approved for Certification

File No: TRS-54-02

Michigan Public Service Commission, State of Michigan

File No: TRS-28-02

Puerto Rico Telecommunications Regulatory Board, State of Puerto Rico

Federal Communications Commission.
Thomas Wyatt,
Deputy Bureau Chief, Consumer & Governmental Affairs Bureau.

[FR Doc. 03-19688 Filed 8-1-03; 8:45 am]

BILLING CODE 6712-01-P